ENVIRONMENTAL PROTECTION AGENCY

[OECA-2004-0015; FRL-7826-4]

Agency Information Collection Activities; Submission for OMB Review and Approval; Comment Request; NSPS for Hospital/Medical/Infectious Waste Incinerators (40 CFR part 60, subpart Ec) (Renewal), ICR Number 1730.04, OMB Number 2060-0363

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on November 30, 2004. Under OMB regulations, the Agency may continue to conduct or sponsor the collection of information while this submission is pending at OMB. This ICR describes the nature of the information collection and its estimated burden and cost.

DATES: Additional comments may be submitted on or before November 12, 2004.

ADDRESSES: Submit your comments, referencing docket ID number OECA-2004-0015, to (1) EPA online using EDOCKET (our preferred method), by email to docket.oeca@epa.gov, or by mail to: Environmental Protection Agency, EPA Docket Center (EPA/DC), Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Compliance Assessment and Media Programs Division, Office of Compliance, (Mail Code 2223A), Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On May 25, 2004 (69 FR 29718), EPA sought comments on this ICR pursuant to 5 CFR 1320.8(d). EPA received no comments.

EPA has established a public docket for this ICR under Docket ID No. OECA-2004-0015, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is: (202) 566-1752. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NSPS for Hospital/Medical/Infectious Waste Incinerators (40 CFR part 60, subpart Ec) (Renewal).

Abstract: The New Source Performance Standards (NSPS) for Hospital/Medical/Infectious Waste Incinerators (HMIWI), burning hospital waste and/or medical infectious waste, are subject to specific reporting and recordkeeping requirements. Notification reports are required upon the construction, reconstruction, or modification of an HMIWI. Also, required are one-time-only reports of initial performance test data and continuous measurements of site-specific operating parameters. Annual compliance reports are required on a variety of site-specific operating parameters, including exceedance of applicable limits. Semiannual compliance reports of emission rates or operating parameter data that were not obtained when exceedances of applicable limits occurred are also required. Affected entities must retain reports and records for five years under 40 CFR part 60, subpart Ec and 40 CFR part 60, subpart A—General Provisions.

Co-fired combustors and incinerators burning only pathological, low-level radioactive, and/or chemotherapeutic waste are required to submit notification reports of an exemption claim, and an estimate of the relative amounts of waste and fuels to be combusted. These co-fired combustors and incinerators are also required to maintain records on a calendar quarter basis, of the weight of hospital waste combusted, the weight of medical/infectious waste combusted, and the weight of all other fuels and waste combusted.

All reports required under NSPS and the General Provisions are submitted to the respondent's state, tribal, or a local agency, whichever has been delegated enforcement authority by the EPA. The information is used by the EPA solely to determine that all sources subject to the NSPS are in compliance, and that the control system installed to comply with the standards is being properly operated and maintained. Based on reported information, EPA can decide which facilities should be inspected and what records or processes should be inspected at the facilities. The records that the owner/operators maintain would indicate to EPA whether facility personnel are operating and maintaining control equipment properly. The NSPS for HMIWIs requires initial notifications, performance tests, and periodic reports. Owners or operators are also required to maintain records of the occurrence and duration of any start-up, shutdown, or malfunction in the operation of an affected facility, or any period during which the monitoring system is inoperative. These notifications, reports, and records are essential in determining compliance and are required of all sources subject to NSPS.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information are estimated to average 145 hours per response. Burdens means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Facilities burning hospital waste and/or medical infectious waste.

Estimated Number of Respondents: 7.

Frequency of Response: Initially, annually, semiannually, on occasion.

Estimated Total Annual Hour Burden: 4,795 hours.

Estimated Total Annual Costs: $327,929, which includes $2,000 annualized capital/startup costs, $20,000 annual O&M costs, and $305,929 annual labor costs.

Changes in the Estimates: There is an increase of two hundred and fifty-four hours in the total estimated burden currently identified in the OMB Inventory of Approved ICR Burdens. This is primarily due to an increase in the number of sources.

Dated: September 22, 2004.
Oscar Morales,
Director, Collection Strategies Division.

[FR Doc. 04-22873 Filed 10-8-04; 8:45 am]

BILLING CODE 6560-50-P